DEPARTMENT OF COMMERCE

Foreign-Trade Zones Board

[S-78-2016]

Approval of Subzone Status; Next Level Apparel; Ashford, Alabama

On June 1, 2016, the Executive Secretary of the Foreign-Trade Zones (FTZ) Board docketed an application submitted by the Dothan-Houston County Foreign Trade Zone, Inc., grantee of FTZ 233, requesting subzone status subject to the existing activation limit of FTZ 233, on behalf of Next Level Apparel in Ashford, Alabama.

The application was processed in accordance with the FTZ Act and Regulations, including notice in the Federal Register inviting public comment (81 FR 37571, June 10, 2016). The FTZ staff examiner reviewed the application and determined that it meets the criteria for approval.

Pursuant to the authority delegated to the FTZ Board's Executive Secretary (15 CFR Sec. 400.36(f)), the application to establish Subzone 233A is approved, subject to the FTZ Act and the Board's regulations, including Section 400.13, and further subject to FTZ 233's 1,451-acre activation limit.

Dated: August 18, 2016.
Andrew McGilvray,
Executive Secretary.

[FR Doc. 2016-20168 Filed 8-22-16; 8:45 am]

BILLING CODE 3510-DS-P